ENVIRONMENTAL PROTECTION AGENCY

[FRL-10302-01-OA]

Local Government Advisory Committee's Small Communities Advisory Subcommittee Meeting

AGENCY: Environmental Protection Agency (EPA).

ACTION: Notification of public meeting.

SUMMARY: Pursuant to the Federal Advisory Committee Act (FACA), EPA hereby provides notice of a meeting for the Local Government Advisory Committee's (LGAC) Small Communities Advisory Subcommittee (SCAS) on the date and times described below. This meeting will be open to the public. For information on public attendance and participation, please see the registration information under SUPPLEMENTARY INFORMATION.

DATES: The SCAS will meet virtually November 4th, 2022, starting at 2:00 p.m. through 3:30 p.m. Eastern Daylight Time.

FOR FURTHER INFORMATION CONTACT: Edlynzia Barnes, Designated Federal Officer (DFO), at LGAC@epa.gov or 773-638-9158.

Information on Accessibility: For information on access or services for individuals requiring accessibility accommodations, please contact Edlynzia Barnes by email at LGAC@epa.gov. To request accommodation, please do so five (5) business days prior to the meeting, to give EPA as much time as possible to process your request.

SUPPLEMENTARY INFORMATION: The EPA has charged the SCAS with the following questions, which will be discussed at this meeting. A draft of the recommendations will be available prior to the meeting for all registered attendees.

Current Charge Questions for Small Communities Advisory Subcommittee (SCAS)

1. As EPA works to implement the BIL, how can the Agency best:

• Support clean and sustainable air, water, and land priorities for small and rural communities.

• Support capacity needs/advancement for small and rural communities.

• Ensure long-lasting communication between EPA and local officials from small and rural communities.

• Ensure small communities are positioned to benefit from this generational investment in environmental infrastructure.

Registration: All interested persons are invited to attend and participate. The SCAS will hear comments from the public from 3:00-3:15 p.m. (EDT). Individuals or organizations wishing to address the Subcommittee will be allowed a maximum of five (5) minutes to present their point of view. Also, written comments should be submitted electronically to LGAC@epa.gov for the SCAS. Please contact the DFO at the email listed under FOR FURTHER INFORMATION CONTACT to schedule a time on the agenda by October 28th, 2022. Time will be allotted on a first-come first-served basis, and the total period for comments may be extended if the number of requests for appearances requires it.

The agenda and other supportive meeting materials will be available online at https://www.epa.gov/ocir/small-community-advisory-subcommittee-scas and can be obtained by written request to the DFO. In the event of cancellation for unforeseen circumstances, please contact the DFO or check the website above for reschedule information.

Julian Bowles,
Director, State and Local Relations, Office of Congressional and Intergovernmental Relations.

[FR Doc. 2022-22664 Filed 10-18-22; 8:45 am]

BILLING CODE 6560-50-P